DEPARTMENT OF THE INTERIOR

Fish and Wildlife Service

[FWS-R6-ES-2011-N276; FXES11130600000C2-123-FF06E00000]

Endangered and Threatened Wildlife and Plants; Revised Recovery Plan for the Utah Prairie Dog

AGENCY: Fish and Wildlife Service, Interior.

ACTION: Notice of document availability.

SUMMARY: The U.S. Fish and Wildlife Service (Service) announces the availability of a final revised recovery plan for the Utah prairie dog (Cynomys parvidens). This species is federally listed as threatened under the Endangered Species Act of 1973, as amended (Act).

ADDRESSES: Electronic copies of the final recovery plan are available online at http://www.fws.gov/endangered/species/recovery-plans.html. Paper copies of the final revised recovery plan are available by request from the Utah Field Office, U.S. Fish and Wildlife Service, 2369 West Orton Circle, Suite 50, West Valley City, UT 84119; telephone 801-975-3330.

FOR FURTHER INFORMATION CONTACT: Larry Crist, Field Supervisor, at the above address, or telephone 801-975-3330.

SUPPLEMENTARY INFORMATION:

Background

Recovering an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the Act (16 U.S.C. 1531 et seq.); and provide estimates of the time and cost for implementing the needed recovery measures.

The Act requires recovery plans for listed species unless such a plan would not promote the conservation of a particular species. Section 4(f) of the Act, as amended in 1988, requires that public notice and opportunity for public review and comment be provided during recovery plan development. We made the draft recovery plan available for public comment and peer review from September 17, 2010, to November 16, 2010 (75 FR 57055). We have considered all information received during the public comment and peer review period in the preparation of the final revised recovery plan for the Utah prairie dog. The Service and other Federal agencies also will take these comments and reviews into consideration in the course of implementing the final approved recovery plan for the Utah prairie dog. In this final revised plan, we have summarized and responded to the issues raised by both the public and the requested peer reviewers in an appendix to the plan, and incorporated changes to the plan as appropriate.

The Utah prairie dog (Cynomys parvidens), found only in southwestern and central Utah, was listed as an endangered species on June 4, 1973 (38 FR 14678). At the time of listing, the species was threatened by habitat destruction and modification, overexploitation, disease, and predation. Subsequently, Utah prairie dog populations increased significantly in portions of their range, and on May 29, 1984 (49 FR 22330), the species was reclassified as threatened with a special rule to allow regulated take of the species. This special rule was amended on June 14, 1991 (56 FR 27438), to increase the amount of regulated take allowed throughout the species' range. Recent Utah prairie dog population trends appear to be relatively stable, although the species remains vulnerable to several serious threats. These include habitat loss, plague, changing climatic conditions, unauthorized take, and disturbance from recreational and economic land uses.

The recovery of Utah prairie dogs will rely on effective conservation responses to the issues facing the species, which remain varied and complex. These issues include plague, urban expansion, grazing, cultivated agriculture, vegetative community changes, invasive plants, off-highway vehicle and recreation uses, climate change, energy resource exploration and development, fire management, poaching, and predation. Strategically, these issues can be reduced to two overriding concerns: loss of habitat and plague. The recovery strategy for the Utah prairie dog focuses on the need to address colony loss and disease through a program that encompasses threats abatement, population management, research, and monitoring. We emphasize conserving extant colonies, many of which occur on non-Federal lands; establishing additional colonies on Federal and non-Federal lands via habitat improvement or translocations; controlling the transmission of plague; and monitoring habitat conditions.

Authority

We developed our final recovery plan under the authority of section 4(f) of the Act, 16 U.S.C. 1533(f). We publish this notice under section 4(f) of the Endangered Species Act of 1973, as amended (16 U.S.C. 1531 et seq.).

Dated: April 20, 2012.
Stephen Guertin,
Regional Director, Denver, Colorado.

[FR Doc. 2012-10033 Filed 4-25-12; 8:45 am]

BILLING CODE 4310-55-P